DEPARTMENT OF TRANSPORTATION

Federal Aviation Administration

14 CFR Part 39

[Docket No. FAA-2021-0605; Project Identifier AD-2021-00805-R; Amendment 39-21664; AD 2021-15-52]

RIN 2120-AA64

Airworthiness Directives; Various Restricted Category Helicopters

AGENCY: Federal Aviation Administration (FAA), DOT.

ACTION: Final rule; request for comments.

SUMMARY: The FAA is adopting a new airworthiness directive (AD) for various restricted category helicopters originally manufactured by Bell Textron Inc. This AD was prompted by a fatal accident in which an outboard main rotor hub strap pin (pin) sheared off during flight, resulting in the main rotor blade and the main rotor head detaching from the helicopter. This AD requires removing certain pins from service and prohibits installing those pins on any helicopter. The FAA previously sent an emergency AD to all known U.S. owners and operators of these restricted category helicopters and is now issuing this AD to address the unsafe condition on these products.

DATES: This AD is effective August 13, 2021. Emergency 2021-15-52, issued on July 8, 2021, which contained the requirements of this amendment, was effective with actual notice.

The FAA must receive comments on this AD by September 13, 2021.

ADDRESSES: You may send comments, using the procedures found in 14 CFR 11.43 and 11.45, by any of the following methods:

• Federal eRulemaking Portal: Go to https://www.regulations.gov. Follow the instructions for submitting comments.

• Fax: (202) 493-2251.

• Mail: U.S. Department of Transportation, Docket Operations,M-30, West Building Ground Floor, Room W12-140, 1200 New Jersey Avenue SE, Washington, DC 20590.

• Hand Delivery: Deliver to Mail address above between 9 a.m. and 5 p.m., Monday through Friday, except Federal holidays.

For service information identified in this final rule, contact Bell Textron, Inc., P.O. Box 482, Fort Worth, TX 76101, United States; telephone 1-450-437-2862 or 1-800-363-8023; fax 1-450-433-0272; email productsupport@bellflight.com; or at https://www.bellflight.com/support/contact-support. You may view this service information at the FAA, Office of the Regional Counsel, Southwest Region, 10101 Hillwood Pkwy., Room 6N-321, Fort Worth, TX 76177. For information on the availability of this material at the FAA, call (817) 222-5110.

Examining the AD Docket

You may examine the AD docket at https://www.regulations.gov by searching for and locating Docket No. FAA-2021-0605; or in person at Docket Operations between 9 a.m. and 5 p.m., Monday through Friday, except Federal holidays. The AD docket contains this final rule, the Transport Canada AD, any comments received, and other information. The street address for Docket Operations is listed above.

FOR FURTHER INFORMATION CONTACT: David Wilson, Aerospace Engineer, DSCO Branch, Compliance & Airworthiness Division, FAA, 10101 Hillwood Pkwy., Fort Worth, TX 76177; telephone (817) 222-5786; email david.wilson@faa.gov.

SUPPLEMENTARY INFORMATION:

Background

On July 6, 2021, the FAA issued Emergency AD 2021-15-51 (Emergency AD 2021-15-51) for Bell Textron Inc. Model 204B, 205A, 205A-1, 205B, and 212 helicopters. That action was prompted by a Bell Textron Inc., Model 212 helicopter fatal accident in which a pin part number (P/N) 204-012-104-005 with a serial number (S/N) prefix “FNFS” sheared off during flight, resulting in the main rotor blade and the main rotor head detaching from the helicopter. The pin had accumulated only 20 total hours time-in-service (TIS). An inspection of a different Model 212 helicopter revealed that another pin installed, and made by the same manufacturer with the same S/N prefix, was deformed; this pin had accumulated only 29 total hours TIS. Failure of the pin could result in the main rotor blade detaching from the helicopter and subsequent loss of control of the helicopter.

Transport Canada, which is the aviation authority for Canada, has issued Canadian Emergency AD CF-2021-23, dated July 5, 2021 (Transport Canada Emergency AD CF-2021-23), to correct an unsafe condition for Bell Helicopter Textron Inc., Model 204B helicopters, S/Ns 2001 through 2070 and 2196 through 2199; Model 205A-1 helicopters, S/Ns 30001 through 30065, 30067 through 30165, 30167 through 30187, 30189 through 30296, and 30298 through 30332; Model 205B helicopters, S/Ns 30066, 30166, 30188, and 30297; and Model 212 helicopters, S/Ns 30501 through 30999, 31101 through 31311, 32101 through 32142, and 35001 through 35103. Transport Canada advises that during an investigation of a Bell Textron Inc., Model 212 fatal accident in Canada, it was discovered that a pin P/N 204-012-104-005 with an S/N prefix “FNFS”, sheared off during flight, leading to detachment of the main rotor blade and the main rotor head. The pin had accumulated only 20 hours of service, and inspection of another Canadian Bell Textron Inc., Model 212 helicopter found a pin of the same P/N, made by the same manufacturer, with the same S/N prefix “FNFS”, to be deformed after only approximately 29 hours in service. According to Transport Canada, failure of a pin will result in detachment of the main rotor blade and loss of control of the helicopter. Transport Canada also advises that, although the defective pins were only reported on Bell Textron Inc., Model 212 helicopters, pins of the same P/N can also be installed on Bell Textron Inc., Model 204B, 205A-1, and 205B helicopters. While the cause of failure has not been determined, as a precautionary measure and to address the risk of detachment of affected pins in flight, Bell has issued alert service bulletins that specify replacing pins P/N 204-012-104-005 that have S/N prefix “FNFS”.

Accordingly, Transport Canada Emergency AD CF-2021-23 requires replacement of affected pins. Transport Canada considers its emergency AD an interim action and states that further AD action may follow.

After Emergency AD 2021-15-51 was issued, the FAA determined that pin P/N 204-012-104-005 with S/N prefix “FNFS” could also be installed on restricted category helicopters originally manufactured by Bell Textron Inc. These helicopters include, but are not limited to, the following:

• Rotorcraft Development Corporation Model HH-1K helicopters;

• Robinson Air Crane Inc.; Rotorcraft Development Corporation; and Tamarack Helicopters, Inc., Model TH-1F helicopters;

• Bell Textron Inc.; Overseas Aircraft Support, Inc. (type certificate previously held by JTBAM, Inc.); and Rotorcraft Development Corporation Model TH-1L helicopters;

• Richards Heavylift Helo, Inc., Model UH-1A helicopters;

• International Helicopters, Inc.; Overseas Aircraft Support, Inc.; Red Tail Flying Services, LLC; Richards Heavylift Helo, Inc.; Rotorcraft Development Corporation; Southwest Florida Aviation International, Inc. (helicopters with an SW204 or SW204HP designation are Southwest Florida Aviation International, Inc., Model UH-1B helicopters); and WSH, LLC (type certificate previously held by San Joaquin Helicopters), Model UH-1B helicopters;

• Bell Textron Inc.; Overseas Aircraft Support, Inc.; Rotorcraft Development Corporation; Smith Helicopters; and West Coast Fabrications Model UH-1E helicopters;

• AST, Inc.; California Department of Forestry; Robinson Air Crane, Inc.; Rotorcraft Development Corporation; and Tamarack Helicopters, Inc., Model UH-1F helicopters;

• Arrow Falcon Exporters Inc.; Global Helicopter Technology, Inc.; Hagglund Helicopters, LLC; JJASPP Engineering Services, LLC; Northwest Rotorcraft, LLC; Overseas Aircraft Support, Inc.; Richards Heavylift Helo, Inc.; Rotorcraft Development Corporation; Southwest Florida Aviation International, Inc. (helicopters with an SW205 designation are Southwest Florida Aviation International, Inc., Model UH-1H helicopters); and Tamarack Helicopters, Inc., Model UH-1H helicopters;

• Bell Textron Inc.; Overseas Aircraft Support, Inc.; and Rotorcraft Development Corporation Model UH-1L helicopters; and

• Robinson Air Crane, Inc.; and Rotorcraft Development Corporation Model UH-1P helicopters.

Therefore, the FAA issued Emergency AD 2021-15-52 to address the unsafe condition on these helicopters. Emergency AD 2021-15-52 requires removing the affected pins from service and prohibits installing those pins on any helicopter. The FAA sent the emergency AD to all known U.S. owners and operators of these helicopters.

FAA's Determination

The FAA is issuing this AD because the agency evaluated all the relevant information and determined the unsafe condition described previously is likely to exist or develop in other products of these same type designs.

Related Service Information

The FAA reviewed Bell Alert Service Bulletin (ASB) UH-1H-21-21 and Bell ASB UH-1H-II-21-31. Each ASB is dated July 7, 2021 and specifies removing all P/N 204-012-104-005 pins with an S/N prefix “FNFS” before next flight. These ASBs also specify that, although the investigation is still in progress, removing these pins from service is required. These ASBs state that these pins may not have been manufactured in accordance with the engineering design requirements and may therefore shear as a result of this nonconformance.

AD Requirements

This AD requires removing pins P/N 204-012-104-005 with an S/N prefix “FNFS” before further flight. This AD also prohibits installing those pins on any helicopter as of the effective date of this AD.

Interim Action

The FAA considers this AD to be an interim action. If final action is later identified, the FAA might consider further rulemaking.

Justification for Immediate Adoption and Determination of the Effective Date

Section 553(b)(3)(B) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

An unsafe condition exists that required the immediate adoption of Emergency AD 2021-15-52, issued on July 8, 2021, to all known U.S. owners and operators of these helicopters. The FAA found that the risk to the flying public justified waiving notice and comment prior to adoption of this rule because the required corrective actions must be completed before further flight. These conditions still exist, therefore, notice and opportunity for prior public comment are impracticable and contrary to the public interest pursuant to 5 U.S.C. 553(b)(3)(B).

In addition, the FAA finds that good cause exists pursuant to 5 U.S.C. 553(d) for making this amendment effective in less than 30 days, for the same reasons the FAA found good cause to forego notice and comment.

Comments Invited

The FAA invites you to send any written data, views, or arguments about this final rule. Send your comments to an address listed under ADDRESSES. Include “Docket No. FAA-2021-0605; Project Identifier AD-2021-00805-R” at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to https://www.regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to David Wilson, Aerospace Engineer, DSCO Branch, Compliance & Airworthiness Division, FAA, 10101 Hillwood Pkwy., Fort Worth, TX 76177; telephone (817) 222-5786; email david.wilson@faa.gov. Any commentary that the FAA receives which is not specifically designated as CBI will be placed in the public docket for this rulemaking.

Regulatory Flexibility Act

The requirements of the Regulatory Flexibility Act (RFA) do not apply when an agency finds good cause pursuant to 5 U.S.C. 553 to adopt a rule without prior notice and comment. Because the FAA has determined that it has good cause to adopt this rule without prior notice and comment, RFA analysis is not required.

Costs of Compliance

The FAA estimates that this AD affects 529 helicopters of U.S. Registry. Labor rates are estimated at $85 per work-hour. Based on these numbers, the FAA estimates the following costs to comply with this AD.

Replacing up to four pins takes about 20 work-hours and parts cost about $1,756 for four pins for an estimated cost of up to $3,456 per helicopter.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national Government and the States, or on the distribution of power and responsibilities among the various levels of government.

For the reasons discussed, I certify that this AD:

(1) Is not a “significant regulatory action” under Executive Order 12866, and

(2) Will not affect intrastate aviation in Alaska.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2021-15-52 Various Restricted Category Helicopters: Amendment 39-21664; Docket No. FAA-2021-0605; Project Identifier AD-2021-00805-R.

(a) Effective Date

This airworthiness directive (AD) is effective without actual notice on August 13, 2021. Emergency AD 2021-15-52, issued on July 8, 2021, which contained the requirements of this amendment, was effective with actual notice.

(b) Affected ADs

None.

(c) Applicability

This AD applies to various restricted category helicopters originally manufactured by Bell Textron Inc. (Bell), certificated in any category, with an outboard main rotor hub strap pin (pin) part number 204-012-104-005 with a serial number prefix “FNFS” installed. These helicopters include but are not limited to:

(1) Rotorcraft Development Corporation Model HH-1K helicopters;

(2) Robinson Air Crane Inc.; Rotorcraft Development Corporation; and Tamarack Helicopters, Inc., Model TH-1F helicopters;

(3) Bell; Overseas Aircraft Support, Inc. (type certificate previously held by JTBAM, Inc.); and Rotorcraft Development Corporation Model TH-1L helicopters;

(4) Richards Heavylift Helo, Inc., Model UH-1A helicopters;

(5) International Helicopters, Inc.; Overseas Aircraft Support, Inc.; Red Tail Flying Services, LLC; Richards Heavylift Helo, Inc.; Rotorcraft Development Corporation; Southwest Florida Aviation International, Inc.,; and WSH, LLC (type certificate previously held by San Joaquin Helicopters), Model UH-1B helicopters;

Note 1 to paragraph (c)(5): Helicopters with an SW204 or SW204HP designation are Southwest Florida Aviation International, Inc., Model UH-1B helicopters.

(6) Bell; Overseas Aircraft Support, Inc.; Rotorcraft Development Corporation; Smith Helicopters; and West Coast Fabrications Model UH-1E helicopters;

(7) AST, Inc.; California Department of Forestry; Robinson Air Crane, Inc.; Rotorcraft Development Corporation; and Tamarack Helicopters, Inc., Model UH-1F helicopters;

(8) Arrow Falcon Exporters Inc.; Global Helicopter Technology, Inc.; Hagglund Helicopters, LLC; JJASPP Engineering Services, LLC; Northwest Rotorcraft, LLC; Overseas Aircraft Support, Inc.; Richards Heavylift Helo, Inc.; Rotorcraft Development Corporation; Southwest Florida Aviation International, Inc.; and Tamarack Helicopters, Inc., Model UH-1H helicopters;

Note 2 to paragraph (c)(8): Helicopters with an SW205 designation are Southwest Florida Aviation International, Inc. Model UH-1H helicopters.

(9) Bell; Overseas Aircraft Support, Inc.; and Rotorcraft Development Corporation Model UH-1L helicopters; and

(10) Robinson Air Crane, Inc.; and Rotorcraft Development Corporation Model UH-1P helicopters.

(d) Subject

Joint Aircraft System Component (JASC) Code: 6200, Main Rotor System.

(e) Unsafe Condition

This AD was prompted by a fatal accident in which a pin sheared off during flight, which resulted in the main rotor blade and the main rotor head detaching from the helicopter. The FAA is issuing this AD to address this unsafe condition and prevent loss of control of the helicopter.

(f) Compliance

Comply with this AD within the compliance times specified, unless already done.

(g) Required Actions

(1) Before further flight, remove from service any pin that is identified in the introductory text of paragraph (c) of this AD.

(2) As of the effective date of this AD, do not install any pin that is identified in the introductory text of paragraph (c) of this AD on any helicopter.

(h) Special Flight Permits

Special flight permits are prohibited.

(i) Alternative Methods of Compliance (AMOCs)

(1) The Manager, DSCO Branch, FAA, has the authority to approve AMOCs for this AD, if requested using the procedures found in 14 CFR 39.19. In accordance with 14 CFR 39.19, send your request to your principal inspector or local Flight Standards District Office, as appropriate. If sending information directly to the manager of the DSCO Branch, send it to the attention of the person identified in paragraph (j)(1) of this AD. Information may be emailed to: 9-ASW-190-COS@faa.gov.

(2) Before using any approved AMOC, notify your appropriate principal inspector, or lacking a principal inspector, the manager of the local flight standards district office/certificate holding district office.

(j) Related Information

(1) For more information about this AD, contact David Wilson, Aerospace Engineer, DSCO Branch, Compliance & Airworthiness Division, FAA, 10101 Hillwood Pkwy., Fort Worth, TX 76177; telephone (817) 222-5786; email david.wilson@faa.gov.

(2) The subject of this AD is addressed in Transport Canada Emergency AD CF-2021-23, dated July 5, 2021 and FAA Emergency AD 2021-15-51, dated July 6, 2021. You may view those ADs at https://www.regulations.gov in Docket No. FAA-2021-0605.

Issued on July 21, 2021.
Gaetano A. Sciortino,
Deputy Director for Strategic Initiatives, Compliance & Airworthiness Division, Aircraft Certification Service.

[FR Doc. 2021-16222 Filed 7-27-21; 11:15 am]

BILLING CODE 4910-13-P